DEPARTMENT OF THE INTERIOR

Bureau of Ocean Energy Management, Regulation and Enforcement

[Docket ID No. BOEM-2011-0068]

Information Collection Activity: Production Safety Systems, Revision of a Collection; Submitted for Office of Management and Budget (OMB) Review; Comment Request

AGENCY: Bureau of Ocean Energy Management, Regulation and Enforcement (BOEMRE), Interior.

ACTION: Notice.

SUMMARY: To comply with the Paperwork Reduction Act of 1995 (PRA), BOEMRE is inviting comments on a collection of information that we will submit to the Office of Management and Budget (OMB) for review and approval. The information collection request (ICR) concerns the paperwork requirements in the regulations under “Oil and Gas Production Safety Systems” (OMB No. 1010-0059).

DATES: Submit written comments by October 17, 2011.

ADDRESSES: You may submit comments by either of the following methods listed below.

• Electronically: go to http://www.regulations.gov. In the entry titled Enter Keyword or ID, enter BOEM-2011-0068 then click search. Follow the instructions to submit public comments and view supporting and related materials available for this collection. BOEMRE will post all comments.

• E-mail cheryl.blundon@boemre.gov. Mail or hand-carry comments to the Department of the Interior; Bureau of Ocean Energy Management, Regulation and Enforcement; Attention: Cheryl Blundon; 381 Elden Street, MS-4024; Herndon, Virginia 20170-4817. Please reference ICR 1010-0059 in your comment and include your name and return address.

FOR FURTHER INFORMATION CONTACT: Cheryl Blundon, Regulations and Standards Branch at (703) 787-1607. You may also contact Cheryl Blundon to obtain a copy, at no cost, of the regulations that require the subject collection of information.

SUPPLEMENTARY INFORMATION: Title: 30 CFR part 250, subpart H, Oil and Gas Production Safety Systems.

OMB Control Number: 1010-0059.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

The OCS Lands Act at 43 U.S.C. 1332(6) states that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

The Independent Offices Appropriations Act (31 U.S.C. 9701), the Omnibus Appropriations Bill (Pub. L. 104-133, 110 Stat. 1321, April 26, 1996), and Office of Management and Budget (OMB) Circular A-25, authorize Federal agencies to recover the full cost of services that confer special benefits. Under the Department of the Interior's (DOI) implementing policy, the Bureau of Ocean Energy Management, Regulation and Enforcement (BOEMRE) is required to charge the full cost for services that provide special benefits or privileges to an identifiable non-Federal recipient above and beyond those which accrue to the public at large. Facility Production Safety System Applications are subject to cost recovery, and BOEMRE regulations specify filing fees for these applications.

This notice concerns the reporting and recordkeeping elements of 30 CFR part 250, subpart H, Oil and Gas Production Safety Systems, and related Notices to Lessees and Operators (NTLs) that clarify and provide additional guidance on some aspects of the regulations.

BOEMRE uses the information submitted under subpart H to evaluate equipment and/or procedures that lessees propose to use during production operations, including evaluation of requests for departures or use of alternative procedures. Information submitted is also used to verify the no-flow condition of wells to continue the waiver of requirements to install valves capable of preventing backflow. BOEMRE inspectors review the records maintained to verify compliance with testing and minimum safety requirements.

The Gulf of Mexico OCS Region (GOMR) has a policy regarding approval of requests to use a chemical-only fire prevention and control system in lieu of a water system. BOEMRE may require additional information be submitted to maintain approval. The information is used to determine if the chemical-only system provides the equivalent protection of a water system for the egress of personnel should a fire occur.

We will protect information from respondents considered proprietary under the Freedom of Information Act (5 U.S.C. 552) and its implementing regulations (43 CFR part 2) and under regulations at 30 CFR 250.197, “Data and information to be made available to the public or for limited inspection,” and 30 CFR part 252, “OCS Oil and Gas Information Program.” No items of a sensitive nature are collected. Responses are mandatory.

Frequency: On occasion or annual.

Description of Respondents: Potential respondents comprise Federal oil, gas, or sulphur lessees and/or operators.

Estimated Reporting and Recordkeeping Hour Burden: The currently approved annual reporting burden for this collection is 47,021 hours. The following chart details the individual components and respective hour burden estimates of this ICR. In calculating the burdens, we assumed that respondents perform certain requirements in the normal course of their activities. We consider these to be usual and customary and took that into account in estimating the burden.

Citation 30 CFR 250 subpart H and NTL(s) | Reporting and recordkeeping requirement | Hour burden: Non-hour cost burdens
Submittals
800; 801; 802; 803 | Submit application, and all required/supporting information, for a production safety system with >125 components | 8
|  | $5,030 per application; $13,238 per offshore visit; $6,884 per shipyard visit.
| 25-125 components | 7
|  | $1,218 per application; $8,313 per offshore visit; $4,766 per shipyard visit.
| <25 components | 6
|  | $604 per application.
| Submit modification to application for production safety system with >125 components. | 4
|  | $561 per application.
| 25-125 components | 3.5
|  | $201 per application.
| <25 components | 3
|  | $85 per application.
801(a) | Submit application for a determination that a well is incapable of natural flow | 3
803(b)(2) | Submit required documentation for unbonded flexible pipe | Burden is covered by the application requirement in § 250.802(e).
803(b)(8); related NTL | Request approval to use chemical only fire prevention and control system in lieu of a water system. | 8
807 | Submit detailed info regarding installing SSVs in an HPHT environment with your APD, APM, DWOP, etc. Burden is covered under 1010-0141 | 0
General
801(h)(2); 803(c) | Identify well with sign on wellhead that subsurface safety device is removed; flag safety devices that are out of service. Usual/customary safety procedure for removing or identifying out-of-service safety devices | 0
802(e), (f), (h)(3); 803(b)(2) | Specific alternate approval requests requiring District Manager approval. Burden covered under 1010-0114 | 0
803(b)(8)(iv); (v) | Post diagram of firefighting system; furnish evidence firefighting system suitable for operations in subfreezing climates | 2
804(a)(12); 800 | Notify BOEMRE prior to production when ready to conduct pre-production test and inspection; upon commencement of production for a complete inspection | ¾
806(c) | Request evaluation and approval of other quality assurance programs covering manufacture of SPPE | 2
Recordkeeping
801(h)(2); 802(e); 804(b) | Maintain records for 2 years on subsurface and surface safety devices to include approved design & installation features, testing, repair, removal, etc; make records available to BOEMRE | 20
803(b)(1)(iii), (2)(i) | Maintain pressure-recorder charts | 17
803(b)(4)(iii) | Maintain schematic of the emergency shutdown (ESD) which indicates the control functions of all safety devices | 9
803(b)(11) | Maintain records of wells that have erosion-control programs and results for 2 years; make available to BOEMRE upon request | 6

Estimated Reporting and Recordkeeping Non-Hour Cost Burden: The currently OMB approved non-hour cost burdens total $482,309. We have identified nine non-hour cost burdens for this collection. These non-hour cost burdens consist of service fees which are determined by the number of components involved in the review and approval process; along with the cost of the offshore and/or shipyard visits under § 250.802(e). We have not identified any other non-hour cost burdens.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: July 20, 2011.
Doug Slitor,
Acting Chief, Office of Offshore Regulatory Programs.

[FR Doc. 2011-20562 Filed 8-15-11; 8:45 am]

BILLING CODE 4310-MR-P